INTERNATIONAL TRADE COMMISSION

Proposed Information Collection; Comment Request; Miscellaneous Tariff Bill (MTB) Petition Submission and Comment Forms

AGENCY: United States International Trade Commission.

ACTION: In accordance with the provisions of the Paperwork Reduction Act of 1995 (44 U.S.C. Chapter 35), the U.S. International Trade Commission (Commission) hereby gives notice that it plans to submit a request for approval of two forms to the Office of Management and Budget for review and requests public comment on its draft collection.

DATES: To ensure consideration, written comments must be submitted on or before August 16, 2016.

ADDRESSES: All Commission offices, including the Commission's hearing rooms, are located in the United States International Trade Commission Building, 500 E Street SW., Washington, DC. All written comments should be addressed to the Secretary, United States International Trade Commission, 500 E Street SW., Washington, DC 20436 and filed electronically on the Commission's electronic docket (EDIS) at https://edis.usitc.gov.

Written Comments: You may submit comments, identified by docket number MISC-034. All submissions should be addressed to the Secretary and must conform to the provisions of section 201.8 of the Commission's Rules of Practice and Procedure (19 CFR 201.8). Section 201.8 and the Commission's Handbook on Filing Procedures require that interested parties file documents electronically on or before the filing deadline. Persons with questions regarding electronic filing should contact the Office of the Secretary, Docket Services Division (202-205-1802).

Additional Information: Copies of the forms, supporting documents, and previously submitted comments may be downloaded from the Commission Web site at http://www.usitc.gov/mtbps. This information may also be obtained from contact Jennifer Rohrbach, USITC MTB Program Manager, Office of Operations (jennifer.rohrbach@usitc.gov or 202-205-2088) or Philip Stone, Office of Industries MTB Coordinator (philip.stone@usitc.gov or 202-205-3424). Hearing-impaired individuals may obtain information on this matter by contacting the Commission's TDD terminal at 202-205-1810. General information concerning the Commission may also be obtained by accessing its Web site (http://www.usitc.gov). Persons with mobility impairments who will need special assistance in gaining access to the Commission should contact the Office of the Secretary at 202-205-2000.

Purpose of Information Collection: The information requested by these forms is for use by the Commission in connection with evaluating miscellaneous tariff petitions submitted under the authority of American Manufacturing Competitiveness Act of 2016 (Pub. L. 114-159 approved May 20, 2016). Section 3 of this Act establishes a process for the submission and consideration of petitions and public comments for duty suspensions and reductions for imported goods in the Harmonized Tariff Schedule of the United States. The collection periods are 60-day periods starting October 15, 2016 and October 15, 2019.

Summary of Proposal:

(1) Number of forms submitted: 2.

(2) Title of forms: Miscellaneous Tariff Petition Submission Form and Miscellaneous Tariff Petition Comment Form.

(3) Type of request: New.

(4) Frequency of use: Twice.

(5) Description of affected industry: Domestic firms.

(6) Estimated number of petitioners and commenters: up to 5,000 petitions; 14,000 comments.

(7) Estimated total number of hours to complete the form: 5 hours for compiling information and submitting petitions and 0.5 hours to draft and submit comments.

(8) Information obtained from the forms that qualifies as confidential business information will be so treated by the Commission and not disclosed in a manner that would reveal the individual operations of a firm.

SUPPLEMENTARY INFORMATION: I. Abstract: Duty rates on imported goods are established by Congress in the Harmonized Tariff Schedule of the United States (HTS). Temporarily duty suspensions and reductions are set forth in chapter 99, subchapter II of the HTS, although no such suspensions or reductions are currently in effect. In large part due to the Commission's role in maintaining and publishing the official HTS, pursuant to the Omnibus Trade and Competitiveness Act of 1988, the Commission has supplied memoranda containing factual information concerning individual bills introduced in many sessions of Congress to seek such duty suspensions or reductions.

The new Act referenced above requires the Commission to establish a process to receive petitions that will take the place of individual miscellaneous tariff bills, and specifies the contents of such petitions. The Act also provides that these petitions must be made available on the Commission's Web site so that public comment on each one may be filed. The Act specifies the contents of Commission preliminary and final reports and requires the Commission to make several determinations concerning the petitions. Lastly, the Act requires the Commission to make particular recommendations concerning the petitions and provide the necessary information to Congress that will permit the Congress to decide which such petitions should be included in a miscellaneous tariff bill. The Act specifies the schedule for conducting each cycle of collections of petitions and for the Commission to submit a report to the House Committee on Ways and Means and the Senate Committee on Finance containing information and its determinations.

II. Method of Collection: Each interested party will be required to establish a user web account on the Commission Web site to submit a petition requesting the creation or renewal of miscellaneous tariff provisions in the HTS comment on a previously submitted petition.

III. Request for Comments: Comments are invited on (1) whether the proposed collection of information is necessary; (2) the accuracy of the agency's estimate of the burden (including hours and cost) of the proposed collection of information; (3) ways to enhance the quality, utility, and clarity of the information to be collected; and (4) ways to minimize the burden of the collection of information, including through the use of automated collection techniques or other forms of information technology.

The draft forms and other supplementary documents may be downloaded from the USITC Web site at http://www.usitc.gov/mtbps.

Comments submitted in response to this notice will be summarized and/or included in the request for OMB approval of this information collection; they will also become a matter of public record.

By order of the Commission.
Issued: June 10, 2016.
Lisa R. Barton,
Secretary to the Commission.

[FR Doc. 2016-14169 Filed 6-14-16; 8:45 am]

BILLING CODE 7020-02-P